DEPARTMENT OF AGRICULTURE

Food and Nutrition Service

Agency Information Collection Activities: Proposed Collection; Comment Request Form FNS-798 and FNS-798A, WIC Financial Management and Participation Report With Addendum

AGENCY: Food and Nutrition Service, USDA.

ACTION: Notice.

SUMMARY: In accordance with the Paperwork Reduction Act of 1995, this notice invites the general public and other public agencies to comment on proposed information collections.

DATES: Written comments on this notice must be received on or before March 21, 2011.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology. Comments may be sent to: Debra Whitford, Director, Supplemental Food Programs Division, Food and Nutrition Service, U.S. Department of Agriculture, 3101 Park Center Drive, Room 520, Alexandria, VA 22302. Comments may also be submitted via fax to the attention of Joan Carroll at 703-305-2196 or via e-mail to Joan.Carroll@fns.usda.gov.

All written comments will be open for public inspection at the office of the Food and Nutrition Service during regular business hours (8:30 a.m. to 5 p.m., Monday through Friday) at 3101 Park Center Drive, Alexandria, Virginia 22302, Room 518.

All responses to this notice will be summarized and included in the request for OMB approval, and will become a matter of public record.

FOR FURTHER INFORMATION CONTACT: Requests for additional information or copies of the information collection form and instructions should be directed to: Joan Carroll, (703) 305-2729.

SUPPLEMENTARY INFORMATION: Title: WIC Financial Management and Participation Report with Addendum.

OMB Number: 0584-0045.

Form Number: FNS 798 and FNS 798A.

Expiration Date: 09-30-2011.

Type of Request: Revision of a Currently Approved Collection Form.

Abstract: Section 17(f)(4) of the Child Nutrition Act of 1966 (42 U.S.C. 1786(f)(4)) provides that “State agencies shall submit monthly financial reports and participation data to the Secretary” (See also 7 CFR 246.25(b)(1)). The WIC Financial Management and Participation Report with Addendum (FNS-798 and FNS-798A) are the forms State agencies complete to comply with this requirement. FNS and State agencies use the reported information for program monitoring, funds management, budget projections, monitoring caseload, policy development, and responding to requests from Congress and interested parties.

In addition, nonentitlement programs, such as the Special Supplemental Nutrition Program for Women, Infants, and Children (WIC), are required to conduct an annual closeout and reconciliation of grants. Departmental regulations at 7 CFR 3016.23(b) require that “[a] grantee must liquidate all obligations incurred under the award not later than 90 days after the end of the funding period (or as specified in a program regulation) to coincide with the submission of the annual Federal Financial Report (SF-425).” WIC Program regulations at 7 CFR 246.17(b)(2) instruct State agencies to “submit to FNS, within 120 days after the end of the fiscal year, final fiscal year closeout reports.” The final WIC Financial Management and Participation Report (FNS-798) submitted for the year with its addendum (FNS-798A) are used as a substitute for the SF-425, because they maintain the integrity of WIC's two grant components (food and nutrition services and administration (NSA)) as well as the four NSA grant components (program management, client services, nutrition education, and breastfeeding promotion and support).

The proposed revision of the WIC Financial Management and Participation Report (FNS-798) and its addendum (FNS-798A) will modify the format for reporting unliquidated NSA obligations. The current FNS-798 requires unliquidated NSA obligations to be reported in the columns corresponding to the 12 months of the fiscal year in which the obligations are incurred. These obligation amounts are then revised downward as outlays and deobligations are made. WIC State agencies have determined reporting downward adjustments for outlays and deobligations is more laborious when reported by obligation month rather than as an adjustment to a cumulative amount. Therefore, the proposed revision will return to a prior format to allow WIC State agencies to report unliquidated NSA obligations as a cumulative year-to-date total.

Estimate of Burden: Public reporting burden for this collection of information is estimated to average 3.35 hours per response, including the time for reviewing instructions, searching existing data sources, gathering and maintaining the data needed, and completing and reviewing the collection of information. The total annual burden on respondents was previously 4,523 hours. This revision does not change the total annual burden of 190 hours.

Affected Public: State, Local and Tribal Agencies: Respondent Type: Directors or Administrators of WIC state agencies.

Estimated Number of Respondents: 90 respondents.

Estimated Number of Responses per Respondent: 15.

Estimated Total Annual Burden on Respondents: 4,523 hours.

Dated: January 12, 2011.
Julia Paradis,
Administrator, Food and Nutrition Service.

[FR Doc. 2011-1131 Filed 1-19-11; 8:45 am]

BILLING CODE 3410-30-P